DEPARTMENT OF HEALTH AND HUMAN SERVICES

National Institutes of Health

Prospective Grant of an Exclusive Patent License: In Vivo Manufactured Anti-CD19 Chimeric Antigen Receptor (CAR) Products for the Treatment or Prevention of B Cell Mediated Autoimmune Diseases

AGENCY: National Institutes of Health, HHS.

ACTION: Notice; correction.

SUMMARY: The Department of Health and Human Services, National Institutes of Health published a Notice in the Federal Register on August 5, 2025. That notice requires a correction in the SUPPLEMENTARY INFORMATION section.

DATES: Only written comments and/or applications for a license which are received by the National Cancer Institute's Technology Transfer Center on or before March 9, 2026 will be considered.

ADDRESSES: Inquiries and comments relating to the contemplated Exclusive Patent License should be directed to: Andrew Burke, Ph.D., Senior Technology Transfer Manager, NCI Technology Transfer Center, Telephone: (240)-276-5484; Email: andy.burke@nih.gov.

SUPPLEMENTARY INFORMATION:

Correction

In the Federal Register of February 13, 2026, in FR Doc. 2026-02907, on page 6864, as found within the SUPPLEMENTARY INFORMATION section. Currently reads:

“The development, production, and commercialization of an anti-CD19 targeting chimeric antigen receptor (CAR)-based immunotherapy using a:

1. non-viral synthetic nanoparticle-based system, or

2. viral system (excluding lentiviral)

that encapsulates mRNA or DNA encoding a CAR having the complementary determining region (CDR) sequences of the anti-CD19 scFv known as Hu19, for the treatment or prevention of autoimmune diseases. And is corrected to read:

“The development, production, and commercialization of an anti-CD19 targeting chimeric antigen receptor (CAR)-based immunotherapy using a:

3. non-viral synthetic nanoparticle-based system, or

4. viral system

that encapsulates mRNA or DNA encoding a CAR having the complementary determining region (CDR) sequences of the anti-CD19 scFv known as Hu19, for the treatment or prevention of autoimmune diseases.

Alycia Booth,
NIH Federal Register Certifying Official, National Institutes of Health.

[FR Doc. 2026-03337 Filed 2-19-26; 8:45 am]

BILLING CODE 4140-01-P